ENVIRONMENTAL PROTECTION AGENCY

[FRL-6530-2]

Agency Information Collection Activities: Submission for OMB Review; Comment Request, Standards of Performance for New Stationary Sources (NSPS) Secondary Lead Smelters

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Standards of Performance for New Stationary Sources (NSPS) Secondary Lead Smelters, 40 CFR part 60, subpart L; OMB No. 2060-0080; EPA No. 1128.06; expiration date is March 31, 2000. The ICR describes the nature of the information collection and its expected burden and cost; where appropriate, it includes the actual data collection instrument.

DATES: Comments must be submitted on or before February 28, 2000.

FOR FURTHER INFORMATION CONTACT: For a copy of the ICR contact Sandy Farmer at EPA by phone at (202) 260-2740, by email at farmer.sandy@epamail.epa.gov, or download off the Internet at http://www.epa.gov/icr and refer to EPA ICR No. 1128.06. For technical questions about the ICR, please contact Deborah Thomas at 202-564-5041.

SUPPLEMENTARY INFORMATION:

Title: New Source Performance Standards for Secondary Lead Smelters, Part 60, Subpart L; OMB Control No. 2060-0080; EPA ICR No.1128.06, expiration date March 31, 2000. This is a request for extension of a currently approved collection.

Abstract: New Source Performance Standards for Secondary Lead Smelters were developed to ensure that air emissions from these facilities do not cause ambient concentrations of lead and non-lead particulate matter to exceed levels that may reasonably be anticipated to endanger public health and the environment. Owners or operators of secondary lead smelters subject to NSPS must notify EPA of construction, reconstruction, modification, anticipated and actual startup dates, and results of performance tests. These facilities must also maintain records of performance test results, startups, shutdowns, and malfunctions. The control of emissions of particulate matter from secondary lead smelters requires not only the installation of properly designed equipment, but also the operation and maintenance of that equipment. Emissions of lead and non-lead particulate matter from secondary lead smelters are the result of operation of pot furnaces, blast furnaces, and reverberatory furnaces.

These standards rely on the capture and collection of particulate matter by particulate emission control devices such as an electrostatic precipitator or scrubber. The reviewing authority may then inspect the source to check if the pollution control devices are properly installed and operated and the standard is being met. Performance test reports are needed as these are the Agency's record of a source's initial capability to comply with the emission standard, and serve as a record of the operating conditions under which compliance was achieved. In order to ensure compliance with the standards, adequate recordkeeping and reporting is necessary. This information enables the Agency to: (1) identify the sources subject to the standard; (2) ensure initial compliance with emission limits; and (3) verify continuous compliance with the standard. Reporting and recordkeeping requirements on the part of the respondent are mandatory under section 114 of the Clean Air Act as amended and 40 CFR part 60.

All reports are sent to the delegated State or local authority. In the event that there is no such delegated authority, the reports are sent directly to the EPA Regional Office. All information submitted to the Agency for which a claim of confidentiality is made will be safeguarded according to the Agency policies set forth in Title 40, Chapter 1, part 2, subpart B-Confidentiality of Business Information (See 40 CFR part 2; 41 FR 36902, September 1, 1976; amended by 43 FR 39999, September 8, 1978; 43 FR 42251, September 28, 1978; 44 FR 17674, March 23, 1979).

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on August 16,1999 (64 FR 44518); no comments were received.

Burden Statement: The annual public reporting and recordkeeping burden for this collection of information is estimated to average 1.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/operators of Secondary Lead Smelters

Estimated Number of Respondents: 23.

Frequency of Response: 1/yr/respondent.

Estimated Total Annual Hour Burden: 35.

Estimated Total Annualized Capital and Operating & Maintenance Cost Burden: $0.00.

Send comments on the Agency's need for this information, the accuracy of the provided burden estimates, and any suggested methods for minimizing respondent burden, including through the use of automated collection techniques to the following addresses. Please refer to EPA ICR No. 1128.06 and OMB No. 2060-0080 in any correspondence.

Ms. Sandy Farmer, U.S. Environmental Protection Agency, Office of Environmental Information, Collection Strategies Division (2822), 1200 Pennsylvania, NW, Washington, DC 20460;

and

Office of Information and Regulatory Affairs, Office of Management and Budget, Attention: Desk Officer for EPA, 725 17th Street, NW, Washington, DC 20503.

Dated: January 20, 2000.
Oscar Morales,
Director, Collection Strategies Division.

[FR Doc. 00-1962 Filed 1-26-00; 8:45 am]

BILLING CODE 6560-50-P